DEPARTMENT OF VETERANS AFFAIRS

Disciplinary Appeals Board Panel

AGENCY: Department of Veterans Affairs.

ACTION: Notice with request for comments.

SUMMARY: Section 203 of the Department of Veterans Affairs (VA) Health Care Personnel Act of 1991 revised the disciplinary grievance and appeal procedures for employees appointed under federal law. It also required the periodic designation of VA employees who are qualified to serve on the Disciplinary Appeals Board. These employees constitute the Disciplinary Appeals Board Panel from which board members in a case are appointed. This notice announces that the roster of employees on the panel is available for review and comment. Employees, employee organizations, and other interested parties shall be provided, upon request and without charge, the list of the employees on the panel, and may submit comments concerning the suitability of any employee on the panel list.

DATES: The names that appear on the panel roster may be selected to serve on a Disciplinary Appeals Board or as a grievance examiner after December 5, 2019.

ADDRESSES: Requests for the panel roster and written comments may be directed to: Secretary of Veterans Affairs, Department of Veterans Affairs, 810 Vermont Avenue NW, Washington, DC 20420. Requests and comments may also be faxed to (202) 495-5200. This is not a toll-free number.

FOR FURTHER INFORMATION CONTACT: Ms. Jennifer Hayek, Senior Employee Relations Policy Specialist, Employee Relations and Performance Management Service, Office of Human Resources Management, Department of Veterans Affairs, 810 Vermont Avenue NW, Mailstop 051, Washington, DC 20420. Ms. Hayek may be reached at (440) 525-5493. This is not a toll-free number.

SUPPLEMENTARY INFORMATION: Public Law 102-40 and 38 United States Code (U.S.C.) 7464(d) requires that the availability of the roster be posted in the Federal Register periodically, but not less than annually.

Signing Authority

The Secretary of Veterans Affairs, or designee, approved this document and authorized the undersigned to sign and submit the document to the Office of the Federal Register for publication electronically as an official document of the Department of Veterans Affairs. Pamela Powers, Chief of Staff, Department of Veterans Affairs, approved this document on October 28, 2019, for publication.

Dated: October 30, 2019.
Luvenia Potts,
Regulation Development Coordinator, Office of Regulation Policy & Management, Office of the Secretary, Department of Veterans Affairs.

[FR Doc. 2019-24038 Filed 11-4-19; 8:45 am]

BILLING CODE 8320-01-P